SECURITIES AND EXCHANGE COMMISSION

[File No. 500-1]

In the Matter of International Poultry Co., Inc. (n/k/a Carley Enterprises, Inc.), International Thoroughbred Breeders, Inc., Internet Marketing, Inc., Intrepid Technology & Resources, Inc., Ion Technology, Inc., Ionic Fuel Technology, Inc., Ipex, Inc. (n/k/a Salus Labs International, Inc.), Itemus, Inc., and ITIS Holdings, Inc. ; Order of Suspension of Trading

June 28, 2011.

It appears to the Securities and Exchange Commission that there is a lack of current and accurate information concerning the securities of International Poultry Co., Inc. (n/k/a Carley Enterprises, Inc.) because it has not filed any periodic reports since the period ended December 4, 1994.

It appears to the Securities and Exchange Commission that there is a lack of current and accurate information concerning the securities of International Thoroughbred Breeders, Inc. because it has not filed any periodic reports since the period ended March 31, 2007.

It appears to the Securities and Exchange Commission that there is a lack of current and accurate information concerning the securities of Internet Marketing, Inc. because it has not filed any periodic reports since the period ended December 31, 2006.

It appears to the Securities and Exchange Commission that there is a lack of current and accurate information concerning the securities Intrepid Technology & Resources, Inc. because it has not filed any periodic reports since the period ended June 30, 2008.

It appears to the Securities and Exchange Commission that there is a lack of current and accurate information concerning the securities of Ion Technology, Inc. because it has not filed any periodic reports since it filed a registration statement on September 10, 2002.

It appears to the Securities and Exchange Commission that there is a lack of current and accurate information concerning the securities of Ionic Fuel Technology, Inc. because it has not filed any periodic reports since the period ended March 31, 2002.

It appears to the Securities and Exchange Commission that there is a lack of current and accurate information concerning the securities of Ipex, Inc. (n/k/a Salus Labs International, Inc.) because it has not filed any periodic reports since the period ended March 31, 2006.

It appears to the Securities and Exchange Commission that there is a lack of current and accurate information concerning the securities of Itemus, Inc. because it has not filed any periodic reports since the period ended December 31, 1999.

It appears to the Securities and Exchange Commission that there is a lack of current and accurate information concerning the securities of ITIS Holdings, Inc. because it has not filed any periodic reports since the period ended March 31, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 28, 2011, through 11:59 p.m. EDT on July 12, 2011.

By the Commission.
Jill M. Peterson,
Assistant Secretary.

[FR Doc. 2011-16567 Filed 6-28-11; 11:15 am]

BILLING CODE 8011-01-P